DEPARTMENT OF ENERGY

Office of Energy Efficiency and Renewable Energy

[Docket No. EERE-2011-BT-NOA-0053]

Faucets, Showerheads, Water Closets and Urinals

AGENCY: Office of Energy Efficiency and Renewable Energy, Department of Energy.

ACTION: Request for Information (RFI).

SUMMARY: On December 15, 2010, the U.S. Department of Energy (DOE or the Department) published a final rule waiving Federal preemption for energy conservation standards under 42 U.S.C. 6297(c) with respect to any State regulation concerning the water use or water efficiency of faucets, showerheads, water closets and urinals that is: (1) More stringent than Federal regulation concerning the water use or water efficiency for that same type or class of product; and (2) applicable to any sale or installation of all products in that particular type or class. In today's notice, DOE requests information from interested parties regarding: State activity with respect to efficiency standards for these products undertaken as a result of the December 15, 2010 final rule; market data; and any new or emerging water-efficient product designs or technologies for faucets, showerheads, water closets and urinals. DOE also requests information regarding any recent actions taken by the American Society of Mechanical Engineers (ASME)/American National Standards Institute (ANSI) toward amending its water efficiency standards for these products. Additional input and suggestions relevant to these products are also welcome.

DATES: Written comments and information are requested by October 24, 2011.

ADDRESSES: Interested persons may submit comments in writing, identified by docket number EERE-2011-BT-NOA-0053, by any of the following methods:

• Federal eRulemaking Portal: http://www.regulations.gov. Follow the instructions for submitting comments.

• E-mail: PlumbingProducts-2011-NOA-0053@ee.doe.gov. Include EERE-2011-BT-NOA-0053 in the subject line of the message.

• Mail: Ms. Brenda Edwards, U.S. Department of Energy, Building Technologies Program, Mailstop EE-2J, Request for Information for Faucets, Showerheads, Water Closets and Urinals, EERE-2011-BT-NOA-0053, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

• Instructions: All submissions received must include the agency name and docket number.

Docket: For access to the docket to read background documents or comments received, visit the U.S. Department of Energy, Resource Room of the Building Technologies Program, 950 L'Enfant Plaza, SW., Suite 600, Washington, DC 20024, (202) 586-2945, between 9 a.m. and 4 p.m., Monday through Friday, except Federal holidays. Please call Ms. Brenda Edwards at the above telephone number for additional information regarding visiting the Resource Room.

FOR FURTHER INFORMATION CONTACT: Mr. Lucas Adin, U.S. Department of Energy, Office of Energy Efficiency and Renewable Energy, Building Technologies Program, EE-2J, 950 L'Enfant Plaza, SW., Suite 600, Washington, DC 20585-0121. Telephone: (202) 287-1317. E-mail: Lucas.Adin@ee.doe.gov.

In the Office of the General Counsel, Ms. Jennifer Tiedeman, U.S. Department of Energy, Office of the General Counsel, GC-71, 1000 Independence Avenue, SW., Washington, DC 20585-0121. Telephone: (202) 287-6111. E-mail: Jennifer.Tiedeman@hq.doe.gov.

SUPPLEMENTARY INFORMATION:

Authority and Background

Title III, Part B of the Energy Policy and Conservation Act (EPCA), Public Law 94-163 (42 U.S.C. 6291-6309, as codified), established the Energy Conservation Program for Consumer Products Other Than Automobiles, which includes the faucets, showerheads, water closets and urinals that are the subjects of today's notice.¹ National standards for these products are based on the ASME/ANSI standards A112.18.1M, for showerheads and faucets, and A112.19.6, for water closets and urinals. 42 U.S.C. 6295(j), (k).

¹ For editorial reasons, upon codification in the U.S. Code, Part B was re-designated Part A.

42 U.S.C. 6295(j)(3)(C) and 6295(k)(3)(C) require that, not later than six months after the conclusion of a five-year period during which the ASME/ANSI has not amended these faucet, showerhead, water closet or urinal standards to improve water efficiency, DOE must waive preemption for Federal standards under 42 U.S.C. 6297(c) with respect to any State regulation concerning the water use or water efficiency of such type or class of showerhead, faucet, water closet or urinal if such State regulation meets the following two conditions. First, the State regulation concerning water use or water efficiency for a particular type or class of showerhead, faucet, water closet or urinal must be more stringent than the Federal regulation concerning water use or water efficiency for that same type or class of showerhead, faucet, water closet or urinal. 42 U.S.C. 6295(j)(3)(C)(i), 6295(k)(3)(C)(i). Second, the State regulation concerning the water use or water efficiency for a particular type or class of showerhead, faucet, water closet or urinal must be applicable to any sale or installation of all products in that particular type or class. 42 U.S.C. 6295(j)(3)(C)(ii), 6295(k)(3)(C)(ii).

ASME/ANSI last made a substantive amendment to its standards regarding the water efficiency requirements for showerheads and faucets on May 29, 1996 (ASME/ANSI A112.18.1M-1996), and for water closets and urinals on April 19, 1996 (ASME/ANSI A112.19.6-1995). Both of these standards were incorporated by reference into the Code of Federal Regulations in a final rule issued by DOE on March 18, 1998. 63 FR 13308. Because more than five years passed since ASME/ANSI last amended the water efficiency requirements in either of these standards, on December 15, 2010, DOE issued a final rule waiving 42 U.S.C. 6297(c) with respect to any State regulation concerning the water use or water efficiency of a particular type or class of showerhead, faucet, water closet or urinal that is both more stringent than the relevant Federal regulation and is applicable to any sale or installation or all products in that particular type or class, effective December 22, 2010.

In view of the above, DOE welcomes information from interested parties regarding activity since the issuance of the December 2010 final rule, and particularly, with respect to any State efficiency standards that are newly applicable or under development, market data regarding the prevalence of models that exceed the current Federal standards, and new or emerging water-efficient product designs or technologies for faucets, showerheads, water closets and urinals. DOE also requests information regarding any recent actions taken by the ASME/ANSI in furtherance of amending its water efficiency standards for these products. Additional input and suggestions relevant to these products are also welcome.

Public Participation

A. Submission of Information

DOE will accept information and data in response to this Request for Information as provided in the DATES section above. Information submitted to the Department by e-mail should be provided in WordPerfect, Microsoft Word, PDF, or text file format. Those responding should avoid the use of special characters or any form of encryption, and wherever possible, comments should include the electronic signature of the author. Comments submitted to the Department by mail or hand delivery/courier should include one signed original paper copy. No telefacsimiles will be accepted. Comments submitted in response to this notice will become a matter of public record and will be made publicly available.

B. Issues on Which DOE Seeks Information

DOE is particularly interested in receiving comments from interested parties on the following issues:

(1) The development or establishment of water conservation standards for showerheads, faucets, water closets or urinals by States or their political subdivisions since DOE published the December 2010 final rule waiving Federal preemption for these products;

(2) Information regarding available models and sales of showerheads, faucets, water closets or urinals that exceed Federal energy conservation standards, and the amounts by which such models exceed the Federal standards;

(3) The existence and availability of new or emerging designs or technologies that (are expected to) improve the water efficiency of showerheads, faucets, water closets or urinals, and whether these designs or technologies (are expected to) have any impact on consumer utility and cost;

(4) Any recent actions that ASME/ANSI has taken in furtherance of amending its faucet, showerhead, water closet or urinal standards in order to improve the products' water efficiency;

(5) Assistance and resources available from stakeholders, States, local jurisdictions, and others.

Issued in Washington, DC, on August 16, 2011.
Timothy Unruh,
Program Manager, Federal Energy Management Program, Energy Efficiency and Renewable Energy.

[FR Doc. 2011-21494 Filed 8-22-11; 8:45 am]

BILLING CODE 6450-01-P